DEPARTMENT OF THE INTERIOR

Fish and Wildlife Service

Notice of Intent To Prepare a Comprehensive Conservation Plan and Environmental Assessment for Bosque del Apache National Wildlife Refuge, Located in Socorro County, NM

AGENCY: Fish and Wildlife Service, Department of the Interior.

ACTION: Notice of Intent.

SUMMARY: This notice advises the public that the Fish and Wildlife Service, Southwest Region, intends to gather information necessary to prepare a Comprehensive Conservation Plan (CCP) and Environmental Assessment for Bosque del Apache National Wildlife Refuge, pursuant to the National Environmental Policy Act and its implementing regulations. The Service is furnishing this notice in compliance with the National Wildlife Refuge System Administration act of 1966, as amended (16 U.S.C. 668dd et seq.), to achieve the following:

(1) Advise other agencies and the public of our intentions, and

(2) Obtain suggestions and information on the scope of issues to include in the environmental document.

DATES: Special mailings, newspaper articles, postings, and media announcements will inform people of opportunities for written input throughout the CCP planning process. Refuge fact sheets will be made available at local libraries in the surrounding communities. This notice of intent/public scoping process will continue until August 31, 2005. Written comments submitted by mail or e-mail should be postmarked by that date to ensure consideration. Comments mailed after that date will be considered to the extent practicable. Inquire at the following address for future dates of planning activities and due dates for comments.

ADDRESSES: Address comments and requests for more information to: Jim Savery, Refuge Manager, Bosque del Apache NWR, CCP-Project, P.O. Box 1246, Socorro, NM 87801, phone (505) 835-1828, fax: (505) 835-0314. Information concerning this Refuge may also be found at the following Web site: http://southwest.fws.gov. Comments submitted via e-mail should be addressed to Yvette Truitt-Ortiz at Yvette_TruittOrtiz@fws.gov or Jim Savery at Jim_Savery@fws.gov. Additionally, you may hand-deliver comments to Mr. Savery at the Refuge, located approximately 8 miles south of San Antonio, New Mexico on State Highway 1. Our practice is to make comments, including names and addresses of respondents, available for public review during regular business hours. Individual respondents may request that we withhold their home address from the rulemaking record, which we will honor to the extent allowable by law.

FOR FURTHER INFORMATION CONTACT: Yvette Truitt-Ortiz, Natural Resource Planner, Division of Planning, P.O. Box 1306, Albuquerque, New Mexico 87103-1306; Telephone (505) 248-6452; Fax (505) 248-6874; e-mail Yvette_TruittOrtiz@fws.gov.

SUPPLEMENTARY INFORMATION: The National Wildlife Refuge System Improvement Act of 1997 requires that all lands within the National Wildlife Refuge System (NWRS) are to be managed in accordance with an approved CCP. The CCP guides management decisions and identifies refuge goals, long-range objectives, and strategies for achieving refuge purposes. Each refuge in the NWRS has specific purposes for which it was established. Those purposes are used to develop and prioritize management goals and objectives within the NWRS mission and to guide which public uses will occur on a given refuge.

The planning process will consider many elements including wildlife and habitat management, habitat protection and acquisition, wilderness preservation, public recreational activities, and cultural resource protection. Public input into the planning process is essential. The planning process is a way for the Service and the public to evaluate refuge management goals and objectives for the best possible conservation efforts of this important wildlife habitat. Concurrently, this process is also providing for wildlife-dependent recreation opportunities that are compatible with each refuge's establishing purposes and the mission of the NWRS.

Bosque del Apache National Wildlife Refuge is located in Socorro County, New Mexico, and encompasses 57,191 acres along the Rio Grande near Socorro, New Mexico. The heart of the Refuge is about 12,900 acres of moist bottomlands of which 3,800 acres are active floodplain of the Rio Grande and 9,100 acres are areas where water is diverted to create extensive wetlands, farmlands, and riparian forests. The rest of the Refuge is made up of arid foothills and mesas. Most of these desert lands are preserved as wilderness areas. The CCP will provide other agencies and the public with a clear understanding of the desired conditions for the Refuge and how the Service will implement management strategies for the conservation and development of these natural resources.

The Service, through this notice of intent, formally begins the comprehensive conservation planning process for Bosque del Apache National Wildlife Refuge. The Service requests input on any and all issues concerning management or public recreation. Comments regarding the protection of threatened and/or endangered species, migratory birds, native species, and their habitats are encouraged. The Service is equally interested in receiving public input in the following areas:

• What makes this Refuge special for you?

• What Refuge projects or activities interest you most?

• What problems or issues do you see affecting management or public use of the Refuge?

• What improvements do you recommend for the Refuge?

The Service has provided the above questions for optional use only. Comments received will be used as part of the planning process. Individual comments will not be referenced in our reports or directly responded to. The Service will continue to solicit information from the public and other agencies via open houses, meetings, and written comments. Special mailings, newspaper releases, and announcements will continue to inform people of the time and place of opportunities for further input to the CCP.

Review of this project will be conducted in accordance with the National Environmental Policy Act of 1968, as amended (42 U.S.C 4321 et seq.), NEPA Regulations (40 CFR parts 1500-1508) found at http://www.legal.gsa.gov, other appropriate Federal laws, and Service policies and procedures for compliance with those regulations.

The Service will prepare an Environmental Assessment (EA) in accordance with procedures for implementing NEPA found in the Department of the Interior Manual (DM Part 516, Chap 6). The decision to prepare an Environmental Impact Statement instead of an EA is contingent upon the complexity of issues following the scoping phase of the CCP process.

We estimate that the draft environmental documents will be available in fall 2007 for public review and comment.

Authority: This notice is published under the authority of the National Wildlife Refuge System Improvement Act of 1997, Public Law 105-57.

Dated: May 9, 2005.
Geoffery L. Haskett,
Acting Regional Director, U.S. Fish and Wildlife Service, Albuquerque, New Mexico.

[FR Doc. 05-10291 Filed 5-20-05; 8:45 am]

BILLING CODE 4310-55-P